DEPARTMENT OF AGRICULTURE

Forest Service

Notice of Public Meeting, Cherokee National Forest Resource Advisory Committee

SUMMARY: In accordance with the Secure Rural Schools and Community Self Determination Act of 2000 (Pub. L. 106-393), [as reauthorized as part of Pub. L. 110-343] and the Federal Advisory Committee Act of 1972 (FACA), the U.S. Department of Agriculture, Forest Service, Cherokee National Forest Resource Advisory Committee will meet for the first time as indicated below.

DATES: The Cherokee National Forest RAC meeting will be conducted on Wednesday, September 29, 2010 from 12:30-4:30 p.m.

ADDRESSES: The Cherokee National Forest Resource Advisory Committee (RAC) meeting will be held at the Bass Pro Shop at 3629 Outdoor Sportsmans Place in Kodak, TN 37764. Phone (865) 932-5600. The facility is located approximately 20 miles north of Knoxville, TN off 1-40 at exit #407 (Sevierville, TN—Winfield Dunn Parkway).

FOR FURTHER INFORMATION CONTACT: Terry Bowerman, Designated Federal Official, Cherokee National Forest, 4900 Asheville Hwy SR 70, Greeneville, TN 37743: Telephone: 423-638-4109, e-mail tbowerman@fs.fed.us.

SUPPLEMENTARY INFORMATION: The Cherokee National Forest Resource Advisory Committee (RAC) proposes projects and funding to the Secretary of Agriculture under Section 203 of the Secure Rural Schools and Community Self Determination Act of 2000, (as reauthorized as part of Pub. L. 110-343). The Cherokee National Forest RAC consists of 15 people selected to serve on the committee by Secretary of Agriculture Tom Vilsack. Two Tennessee counties, Cocke and Monroe, are setting aside a percentage of their Secure Rural Schools Act payment under Title II of the Act to be used for projects on Federal land. The RAC will ultimately review and recommend projects to be funded from this money. Projects approved must benefit National Forest land. Projects can maintain infrastructure, improve the health of watersheds and ecosystems, protect communities, and strengthen local economies.

The agenda for the first meeting of the Cherokee National Forest RAC will focus on a general overview of the Secure Rural Schools Act and election of a chairperson. RAC meetings are open to the public.

H. Thomas Speaks, Jr.,
Forest Supervisor, Cherokee National Forest.

[FR Doc. 2010-21809 Filed 8-31-10; 8:45 am]

BILLING CODE 3410-11-M